DEPARTMENT OF STATE

[Public Notice 4899]

Shipping Coordinating Committee; Notice of Meeting

The Shipping Coordinating Committee will conduct an open meeting between 10 a.m. on Tuesday, January 11, 2005 in Room 6319, at U.S. Coast Guard Headquarters, 2100 Second Street, SW., Washington, DC. The purpose of the meeting is to prepare for the 49th Session of the International Maritime Organization (IMO) Subcommittee on Fire Protection to be held at the IMO Headquarters in London, England from January 24-28, 2005.

The primary matters to be considered include:

—Large passenger ship safety.

—Performance testing and approval standards for fire safety systems.

—Review of the 2000 HSC Code and amendments to the DSC Code and the 1994 HSC Code.

—Amendments to Res.A.653 (16) relating to the preparation of specimens of sealants and mastics.

—Amendments to resolution A.754 (18) relating to performance criteria for fire doors.

—Review of the fire protection provisions of the LHNS guidelines.

—Performance standards for evacuation guidance systems.

—Recommendations on evacuation analysis for new and existing passenger ships.

—Analysis of fire records.

—Development of provisions for gas fuelled ships.

—Consideration of IACS unified interpretations.

Members of the public may attend these meetings up to the seating capacity of the room. Interested persons may seek information by writing: Chief, Office of Design and Engineering Standards, Commandant (G-MSE-4), U.S. Coast Guard Headquarters, 2100 Second Street, SW., Washington, DC 20593-0001, by calling: Mr. R. Eberly at (202) 267-1861, or by visiting the following World Wide Web site: http://www.uscg.mil/hq/g-m/mse4/stdimofp.htm.

Dated: December 14, 2004.
Clayton L. Diamond,
Executive Secretary, Shipping Coordinating Committee.

[FR Doc. 04-27807 Filed 12-17-04; 8:45 am]

BILLING CODE 4710-09-P